INTERNATIONAL TRADE COMMISSION

[USITC SE-04-005]

Government in the Sunshine Act Meeting

AGENCY: United States International Trade Commission.

DATES: March 8, 2004.

Original Time: 11 a.m.

New Time: 10:30 a.m.

Place: Room 101, 500 E Street, SW., Washington, DC 20436, Telephone: (202) 205-2000.

Status: Open to the public.

In accordance with 19 CFR 201.35(d)(1), the Commission has determined to change the time for the meeting of March 8, 2004 from 11 a.m. to 10:30 a.m.

By order of the Commission:
Issued: February 26, 2004.
Marilyn R. Abbott,
Secretary to the Commission.

[FR Doc. 04-4630 Filed 2-26-04; 2:13 pm]

BILLING CODE 7020-02-P